NATIONAL SCIENCE FOUNDATION

Proposal Review Panel for Materials Research; Notice of Meeting

In accordance with the Federal Advisory Committee Act (Pub. L. 92-463 as amended), the National Science Foundation announces the following meeting:

Name: Site Visit review of the Nanoscale Science and Engineering Center (NSEC) at the University of Wisconsin, Madison, WI (DMR) #1203.

Dates & Times: Sunday, April 27, 2008; 6 p.m.—8:30 p.m., Monday, April 28, 2008; 7:45 a.m.—9:30 p.m., Tuesday, April 29, 2008; 8 a.m.—4:30 p.m.

Place: University of Wisconsin, Madison, WI.

Type of Meeting: Part-open.

Contact Person: Dr. Thomas Rieker, Program Director, Materials Research Science and Engineering Centers Program, Division of Materials Research, Room 1065, National Science Foundation, 4201 Wilson Boulevard, Arlington, VA 22230, Telephone (703) 292-4914.

Purpose of Meeting: To provide advice and recommendations concerning further support of the NSEC at the University of Wisconsin (UWI), Madison, WI.

Agenda:

Sunday, April 27, 2008

6 p.m.—7 p.m. Closed—Executive session.

7 p.m.—8:30 p.m. Open—Review of the NSEC at UW.

Monday, April 28, 2008

7:45 a.m.—4:30 p.m. Open—Review of the NSEC at UW.

4:30 p.m.—6 p.m. Closed—Executive session.

6 p.m.—7:30 p.m. Open—Review of the NSEC at UW.

7:30 p.m.—9:30 p.m. Closed—Dinner.

Tuesday, April 29, 2008

8 a.m.—9 a.m. Closed—Executive session.

9 a.m.—11a.m. Open—Review of the NSEC at UW.

11 a.m.—4 p.m. Closed—Executive Session, Draft and Review Report.

Reason for Closing: The work being reviewed may include information of a proprietary or confidential nature, including technical information; financial data, such as salaries and personal information concerning individuals associated with the proposals. These matters are exempt under 5 U.S.C. 552 b(c), (4) and (6) of the Government in the Sunshine Act.

Dated: March 25, 2008.
Susanne Bolton,
Committee Management Officer.

[FR Doc. E8-6366 Filed 3-27-08; 8:45 am]

BILLING CODE 7555-01-P